DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Social and Economic Impacts of Hurricane Sandy on the Commercial and Recreational Fisheries of New York and New Jersey.

OMB Control Number: None.

Form Number(s): NA.

Type of Request: Regular submission (request for a new information collection).

Number of Respondents: 921.

Average Hours per Response: 25 minutes.

Burden Hours: 384.

Needs and Uses: This request is for a new information collection.

The Northeast Fisheries Science Center's Social Sciences Branch seeks to conduct a one year assessment of the social and economic impacts from Hurricane Sandy to the commercial and recreational fishing industries in New York and New Jersey. It seeks to collect data on the long term disruption and impediments to recovery of normal business practices to the commercial and recreational fishing industries. It seeks to collect data from commercial and for-hire fishermen, marinas, fish dealers, bait and tackle stores, and other businesses dependent on the fishing industry for livelihood. The data will improve research and analysis of potential fishery management actions by understanding the long-term compounding effects of this natural disaster on communities most dependent on fishing. It is consistent with the Magnuson-Stevens Fishery Conservation and Management Act.

Affected Public: Business or other for-profit organizations.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: November 19, 2013.
Gwellnar Banks,
Management Analyst, Office of the Chief Information Officer.

[FR Doc. 2013-28164 Filed 11-22-13; 8:45 am]

BILLING CODE 3510-22-P